DEPARTMENT OF LABOR

Employee Benefits Security Administration

Advisory Council on Employee Welfare and Pension Benefit Plans Working Group on Improving Plan Communications for Health and Welfare Plan Participants; Notice of Meeting

Pursuant to the authority contained in Section 512 of the Employee Retirement Income Security Act of 1974 (ERISA), 29 U.S.C. 1142, the Working Group assigned by the Advisory Council on Employee Welfare and Pension Benefit Plans to study the issue of improving plan communications for health and welfare plan participants will hold an open public meeting on September 21, 2005.

The session will take place in room S 4215 B-C, U.S. Department of Labor, 200 Constitution Avenue NW., Washington, DC 20210. The purpose of the open meeting, which will run from 9 a.m. to approximately 4 p.m., with a one hour break for lunch, is for Working Group members to hear testimony from invited witnesses. The Working Group will inquire whether plan participants understand benefits under health and welfare plans and whether the existing required communication tools (e.g., SPD, SAR, claims procedure rules) are accomplishing the original goal of full disclosure.

Organizations or members of the public wishing to submit a written statement pertaining to the topic may do so by submitting 25 copies on or before September 14, 2005 to Larry Good, Executive Secretary, ERISA Advisory Council, U.S. Department of Labor, Suite N-5623, 200 Constitution Avenue, NW., Washington, DC 20210. Statements also may be submitted electronically to good.larry@dol.gov. Statements received on or before September 14, 2005 will be included in the record of the meeting. Individuals or representatives of organizations wishing to address the Working Group should forward their requests to the Executive Secretary or telephone (202) 693-8668. Oral presentations will be limited to 20 minutes, time permitting, but an extended statement may be submitted for the record. Individuals with disabilities who need special accommodations should contact Larry Good by September 14 at the address indicated.

Signed at Washington, DC this 25th day of August, 2005.
Ann L. Combs,
Assistant Secretary, Employee Benefits Security Administration.

[FR Doc. 05-17312 Filed 8-30-05; 8:45 am]

BILLING CODE 4510-24-M